DEPARTMENT OF ENERGY

Environmental Management Site-Specific Advisory Board Chairs

AGENCY: Office of Environmental Management, Department of Energy.

ACTION: Notice of open meeting: Correction.

SUMMARY: On March 4, 2019, the Department of Energy published a notice of open meeting announcing a meeting on May 8-9, 2019 of the Environmental Management Site-Specific Advisory Board Chairs (84 FR 7351). This document makes a correction to that notice.

FOR FURTHER INFORMATION CONTACT: David Borak, EM SSAB Designated Federal Officer, U.S. Department of Energy, 1000 Independence Avenue SW, Washington, DC 20585; Phone: (202) 586-9928.

Corrections

In the Federal Register of March 4, 2019, in FR Doc. 2019-03811, on page 7351, please make the following correction:

In that notice under ADDRESSES, first column, third paragraph, the meeting address has been changed. The original address was City of Aiken Municipal Building, Conference Center, 215 The Alley SW, Aiken, South Carolina 29801. The new address is Hyatt House Augusta Downtown, 1268 Broad Street, Augusta, Georgia 30901.

Signed in Washington, DC, on March 14, 2019.
LaTanya Butler,
Deputy Committee Management Officer.

[FR Doc. 2019-05235 Filed 3-19-19; 8:45 am]

BILLING CODE 6450-01-P